DEPARTMENT OF AGRICULTURE

Grain Inspection, Packers and Stockyards Administration

Request for Extension and Revision of a Currently Approved Information Collection

AGENCY: Grain Inspection, Packers and Stockyards Administration, USDA.

ACTION: Notice and request for comments.

SUMMARY: In accordance with the Paperwork Reduction Act of 1995 (44 U.S.C. Chapter 35), this notice announces the Grain Inspection, Packers and Stockyards Administration's (GIPSA) intention to request an extension and revision of a currently approved information collection in support of the reporting and recordkeeping requirements under regulations under the Packers and Stockyards Act of 1921, as amended (7 U.S.C. 181, et seq.).

DATES: Comments on this notice must be received by April 10, 2001.

ADDITIONAL INFORMATION OR COMMENTS: Contact Sharon Vassiliades, GIPSA, USDA, STOP 3604, 1400 Independence Avenue, SW, Washington, DC 20250-3604, FAX 202 690-2755, or telephone: 202 720-1738.

SUPPLEMENTARY INFORMATION: Title: Regulations and Related Reporting and Recordkeeping Requirements—Packers and Stockyards Programs.

OMB Number: 0580-0015.

Expiration Date of Approval: May 31, 2001.

Type of Request: Extension and revision of a currently approved information collection.

Abstract: The Packers and Stockyards Act (7 U.S.C. 181 et seq.) (Act) and the regulations under the Act authorize the collection of information for the purpose of enforcing the Act and regulations and to conduct studies as requested by Congress. The information is needed in order for GIPSA to carry out its responsibilities under the Packers and Stockyards Act. The information is necessary to monitor and examine financial, competitive, and trade practices in the livestock, meat packing, and poultry industries. The purpose of this notice is to solicit comments from the public concerning our information collection.

Estimate of Burden: Public reporting and recordkeeping burden for this collection of information is estimated to average 8.5 hours per response.

Respondents: Livestock auction markets, livestock dealers, packer buyers, meat packers, and live poultry dealers.

Estimated Number of Respondents: 10,950.

Estimated Number of Responses per Respondent: 3.3.

Estimated Total Annual Burden on Respondents: 304,106 hours.

Copies of this information collection can be obtained from Sharon Vassiliades at 202 720-1738.

Comments: Comments are invited on: (a) Whether the collection of information is necessary for the proper performance of the functions of the agency, including whether the information will have practical utility; (b) the accuracy of the agency?s estimate of the burden of the proposed collection of information including the validity of the methodology and assumptions used; (c) ways to enhance the quality, utility, and clarity of the information to be collected; and (d) ways to minimize the burden of the collection of information on those who are to respond, including through the use of appropriate automated, electronic, mechanical, or other technological collection techniques or forms of information technology. Comments may be sent to: Sharon Vassiliades, GIPSA, USDA, STOP 3649, 1400 Independence Avenue, SW, Washington, D.C. 20250-3604; Faxed to 202 690-2755; or e-mailed to comments@gipsadc.usda.gov.

All responses to this notice will be summarized and included in the request for OMB approval. All comments will also become a matter of public record.

Dated: January 24, 2001.
JoAnn Waterfield,
Deputy Administrator, Packers and Stockyards Programs, Grain Inspection, Packers and Stockyards Administration.

[FR Doc. 01-3234 Filed 2-7-01; 8:45 am]

BILLING CODE 3410-EN-U